DEPARTMENT OF COMMERCE

National Oceanic and Atmospheric Administration

RIN 0648-XG30

U.S. Climate Change Science Program Synthesis and Assessment Product Draft Report 5.3 “Decision Support Experiments and Evaluations Using Seasonal to Interannual Forecasts and Observational Data”

AGENCY: National Oceanic and Atmospheric Administration (NOAA), Department of Commerce.

ACTION: Notice of availability and request for public comments.

SUMMARY: The National Oceanic and Atmospheric Administration publishes this notice to announce a 45-day public comment period for the draft report titled, U.S. Climate Change Science Program Synthesis and Assessment Product 5.3 “Decision support experiments and evaluations using seasonal to interannual forecasts and observational data.”

This draft report is being released solely for the purpose of pre-dissemination peer review under applicable information quality guidelines. This document has not been formally disseminated by NOAA. It does not represent and should not be construed to represent any Agency policy or determination. After consideration of comments received on the draft report, a revised version along with the comments received will be published on the CCSP web site.

DATES: Comments must be received by May 2, 2008.

ADDRESSES: The draft Synthesis and Assessment Product: 5.3 “Decision support experiments and evaluations using seasonal to interannual forecasts and observational data.” is posted on the CCSP Web site at:

www.climatescience.gov/Library/sap/sap5-3/default.php

Detailed instructions for making comments on this draft report are provided at the CCSP link. Comments must be prepared in accordance to these instructions and must be submitted to:

5.3-seasonal_DecisionSupport@usgcrp.gov

FOR FURTHER INFORMATION CONTACT: Dr. Fabien Laurier, Climate Change Science Program Office, 1717 Pennsylvania Avenue NW, Suite 250, Washington, DC 20006, Telephone: (202)419-3481.

SUPPLEMENTARY INFORMATION: The CCSP was established by the President in 2002 to coordinate and integrate scientific research on global change and climate change sponsored by 13 participating departments and agencies of the U.S. Government. The CCSP is charged with preparing information resources that promote climate-related discussions and decisions, including scientific synthesis and assessment analyses that support evaluation of important policy issues.

Dated: March 11, 2008.
William J. Brennan,
Deputy Assistant Secretary of Commerce for International Affairs, and Acting Director, Climate Change Science Program.

[FR Doc. E8-5423 Filed 3-17-08; 8:45 am]

BILLING CODE 3510-12-S